DEPARTMENT OF TRANSPORTATION

Federal Aviation Administration

14 CFR Part 39

[Docket No. FAA-2010-0854; Directorate Identifier 2009-NM-261-AD; Amendment 39-16559; AD 2011-01-06]

RIN 2120-AA64

Airworthiness Directives; Airbus Model A310 Series Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

During High Time Equipment (HTE) reviews conducted within the scope of the A310 aircraft Design Service Goal (DSG) extension work, Airbus discovered that the splined couplings and the sliding bearings of the flap transmission system could be affected by corrosion and wear, especially when their protective components such as wiper rings and rubber gaiters could become defective.

This condition, if not detected and corrected, could degrade the functional integrity of the flap transmission system.

* * * * *

We are issuing this AD to require actions to correct the unsafe condition on these products.

DATES: This AD becomes effective February 9, 2011.

The Director of the Federal Register approved the incorporation by reference of a certain publication listed in this AD as of February 9, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on September 23, 2010 (75 FR 57880), and proposed to supersede AD 2007-02-22, Amendment 39-14909 (72 FR 3708, January 26, 2007). That NPRM proposed to correct an unsafe condition for the specified products. The MCAI states:

During High Time Equipment (HTE) reviews conducted within the scope of the A310 aircraft Design Service Goal (DSG) extension work, Airbus discovered that the splined couplings and the sliding bearings of the flap transmission system could be affected by corrosion and wear, especially when their protective components such as wiper rings and rubber gaiters could become defective.

This condition, if not detected and corrected, could degrade the functional integrity of the flap transmission system.

For the reason described above, this AD requires repetitive inspections of the flap transmission system and associated components [for any missing, damaged, or incorrectly installed rubber gaiter, wiper rings and straps], and corrective action(s), depending on findings. [The corrective action is replacing missing, damaged, or incorrectly installed components.]

This [EASA] AD has been revised to correct the compliance time of 400 flight cycles in paragraph (3) into 400 flight hours. In addition, paragraph (4) has been introduced to clarify that the corrective actions do not end the requirement to continue the repetitive inspections, and some editorial changes for reasons of standardization. These do not affect the requirements of this AD as originally intended.

You may obtain further information by examining the MCAI in the AD docket.

Comments

We gave the public the opportunity to participate in developing this AD. We considered the comment received.

Request To Clarify Compliance Times in Paragraphs (h)(1) and (h)(2) of the NPRM

FedEx (FedEx) requested that we clarify the compliance times in paragraphs (h)(1) and (h)(2) of the NPRM. FedEx stated that paragraph (h)(1) establishes the deadline for replacing defective components found before the effective date of the AD, and pointed out that paragraph (h)(2) should establish the deadline for replacing the defective components found after the effective date of the AD.

We agree with the commenter. We removed “not” from paragraph (h)(2) of this final rule so that it now establishes the deadline for replacing the defective components after the effective date of the AD.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD affects about 46 products of U.S. registry.

The actions that are required by AD 2007-02-22 and retained in this AD take about 3 work-hours per product, at an average labor rate of $85 per work-hour. Based on these figures, the estimated cost of the currently required actions is $255 per product.

We estimate that it will take about 3 work-hours per product to comply with the new basic requirements of this AD. The average labor rate is $85 per work-hour. Based on these figures, we estimate the cost of this AD to the U.S. operators to be $11,730, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14909 (72 FR 3708, January 26, 2007) and adding the following new AD:

2011-01-06 Airbus: Amendment 39-16559. Docket No. FAA-2010-0854; Directorate Identifier 2009-NM-261-AD.

Effective Date

(a) This airworthiness directive (AD) becomes effective February 9, 2011.

Affected ADs

(b) This AD supersedes AD 2007-02-22, Amendment 39-14909.

Applicability

(c) This AD applies to all Airbus Model A310-203, -204, -221, -222, -304, -322, -324, and -325 airplanes; certificated in any category.

Subject

(d) Air Transport Association (ATA) of America Code 27: Flight controls.

Reason

(e) The mandatory continuing airworthiness information (MCAI) states:

During High Time Equipment (HTE) reviews conducted within the scope of the A310 aircraft Design Service Goal (DSG) extension work, Airbus discovered that the splined couplings and the sliding bearings of the flap transmission system could be affected by corrosion and wear, especially when their protective components such as wiper rings and rubber gaiters could become defective.

This condition, if not detected and corrected, could degrade the functional integrity of the flap transmission system.

* * * * *

Compliance

(f) You are responsible for having the actions required by this AD performed within the compliance times specified, unless the actions have already been done.

Restatement of Requirements of AD 2007-02-22, With Revised Service Information and Reduced Compliance Time for Corrective Action

Initial and Repetitive Inspections

(g) Within 2,500 flight cycles after March 2, 2007 (the effective date of AD 2007-02-22): Do a detailed inspection for any missing, damaged, or incorrectly installed wiper rings in the splined couplings of the flap transmission shafts; and a detailed inspection for any missing, damaged, or incorrectly installed rubber gaiters and straps on the sliding bearing/plunging joints of the flap transmission; in accordance with the Accomplishment Instructions of Airbus Service Bulletin A310-27-2099, dated February 17, 2006; or Airbus Mandatory Service Bulletin A310-27-2099, Revision 01, dated March 21, 2008. Repeat the inspections thereafter at intervals not to exceed 2,500 flight cycles. After the effective date of this AD, use only Airbus Mandatory Service Bulletin A310-27-2099, Revision 01, dated March 21, 2008.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Actions

(h) If any damaged, missing or incorrectly installed wiper rings, rubber gaiters, or straps are found during any inspection required by paragraph (g) of this AD: At the applicable time in paragraph (h)(1) or (h)(2) of this AD, replace the applicable component with a serviceable component in accordance with the Accomplishment Instructions of Airbus Service Bulletin A310-27-2099, dated February 17, 2006; or Airbus Mandatory Service Bulletin A310-27-2099, Revision 01, dated March 21, 2008. After the effective date of this AD, use only Airbus Mandatory Service Bulletin A310-27-2099, Revision 01, dated March 21, 2008.

(1) For airplanes on which the inspection required by paragraph (g) of this AD has been done before the effective date of this AD: Within 400 flight cycles after accomplishing the inspection.

(2) For airplanes on which the inspection required by paragraph (g) of this AD has been done on or after the effective date of this AD: Within 400 flight hours after accomplishing the inspection required by paragraph (g) of this AD.

New Requirements of This AD

Actions

(i) Accomplishment of the actions required by paragraph (h) do not terminate the repetitive inspections required by paragraph (g) of this AD.

FAA AD Differences

Note 2: This AD differs from the MCAI and/or service information as follows: No differences.

Other FAA AD Provisions

(j) The following provisions also apply to this AD:

(1) Alternative Methods of Compliance (AMOCs): The Manager, International Branch, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD. AMOCs approved previously in accordance with AD 2007-02-22, Amendment 39-14909, are approved as AMOCs for the corresponding provisions of paragraphs (g) and (h) of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(k) Refer to MCAI European Aviation Safety Agency Airworthiness Directive 2006-0111R1, dated August 26, 2009; and Airbus Mandatory Service Bulletin A310-27-2099, Revision 01, dated March 21, 2008; for related information.

Material Incorporated by Reference

(l) You must use Airbus Mandatory Service Bulletin A310-27-2099, Revision 01, dated March 21, 2008, to do the actions required by this AD, unless the AD specifies otherwise.

(1) The Director of the Federal Register approved the incorporation by reference of Airbus Mandatory Service Bulletin A310-27-2099, Revision 01, dated March 21, 2008, under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on December 17, 2010.
Ali Bahrami,
Manager, Transport Airplane Directorate, Aircraft Certification Service.

[FR Doc. 2010-32987 Filed 1-4-11; 8:45 am]

BILLING CODE 4910-13-P